DEPARTMENT OF COMMERCE

Foreign-Trade Zones Board

[Order No. 1198]

Approval for Expansion of Subzone 87A, Conoco, Inc. (Oil Refinery), Lake Charles, LA

Pursuant to its authority under the Foreign-Trade Zones Act of June 18, 1934, as amended (19 U.S.C. 81a-81u), the Foreign-Trade Zones Board (the Board) adopts the following Order:

Whereas, the Lake Charles Harbor and Terminal District, grantee of FTZ 87, has requested authority on behalf of Conoco, Inc. (Conoco), to add capacity and to expand the scope of authority under zone procedures within Subzone 87A at the Conoco refinery in Lake Charles, Louisiana (FTZ Docket 16-2001, filed 4/9/2001);

Whereas, notice inviting public comment has been given in the Federal Register (66 FR 19918, 4/18/01);

Whereas, pursuant to section 400.32(b)(1) of the FTZ Board regulations (15 CFR 400), the Secretary of Commerce's delegate on the FTZ Board has the authority to act for the Board in making decisions regarding manufacturing activity within existing zones when the proposed activity is the same, in terms of products involved, to activity recently approved by the Board and similar in circumstances (15 CFR 400.32(b)(1)(i)); and,

Whereas, the Board adopts the findings and recommendations of the examiner's report, and finds that the requirements of the FTZ Act and Board's regulations would be satisfied, and that approval of the application would be in the public interest if approval is subject to the conditions listed below;

Now, Therefore, the Board hereby orders:

The application to add capacity and to expand the scope of authority under zone procedures within Subzone 87A on behalf of Conoco, Inc., is approved, subject to the FTZ Act and the Board's regulations, including § 400.28, and subject to the following conditions:

1. Foreign status (19 CFR 146.41, 146.42) products consumed as fuel for the petrochemical complex shall be subject to the applicable duty rate.

2. Privileged foreign status (19 CFR 146.41) shall be elected on all foreign merchandise admitted to the subzone, except that non-privileged foreign (NPF) status (19 CFR 146.42) may be elected on inputs covered under HTSUS Subheadings #2710.00.05-#2710.00.10, #2710.00.25, and #2710.00.4510 which are used in the production of:

—Petrochemical feedstocks (examiner's report, Appendix “C”);

—Products for export;

—And, products eligible for entry under HTSUS #9808.00.30 and #9808.00.40 (U.S. Government purchases).

Signed at Washington, DC, this 16th day of November 2001.
Faryar Shirzad,
Assistant Secretary for Import Administration, Alternate Chairman, Foreign-Trade Zones Board.

[FR Doc. 01-29486 Filed 11-26-01; 8:45 am]

BILLING CODE 3510-DS-P